DEPARTMENT OF THE INTERIOR

National Indian Gaming Commission

25 CFR Parts 502 and 546

Class II Definitions and Game Classification Standards

AGENCY: National Indian Gaming Commission.

ACTION: Notice of public hearing; notice of extension of comment period; errata notice.

SUMMARY: This document sets a date, time, place, and procedures for a public hearing in connection with the proposed Class II definitions and game classification standards published in the Federal Register on May 25, 2006 (71 FR 30232, 71 FR 30238). Additionally, this document extends the period for comments on the proposed regulations. Finally, this document provides an errata for the preamble to the Notice of Proposed Rulemaking published in the Federal Register on May 25, 2006 (71 FR 30238).

DATES: The hearing will begin at 10 a.m. e.d.t. on September 19, 2006. Comment Period: The comment period for the proposed classification regulations is extended from August 23, 2006, to September 30, 2006.

ADDRESSES: United States Department of the Interior, Main Auditorium, 1849 C Street, NW., Washington, DC.

FOR FURTHER INFORMATION CONTACT: Natalie Hemlock at 202/632-7003; fax 202/632-7066 (these are not toll-free numbers).

SUPPLEMENTARY INFORMATION: Congress established the National Indian Gaming Commission (NIGC or Commission) under the Indian Gaming Regulatory Act of 1988 (25 U.S.C. 2701 et seq.) (IGRA) to regulate gaming on Indian lands. On May 25, 2006, proposed Class II definitions and game classification standards were published in the Federal Register (71 FR 30238). The purpose of this meeting is to provide the NIGC with information from those impacted by changes to gaming regulations. The hearing will be non-adversarial and fact-finding in nature and questioning will be limited to the panel topics. This public hearing will be transcribed and the transcription will be made available to the public.

1. Composition of the Hearing Panels

The Hearing Panels will be composed of individuals selected by the NIGC. The Hearing Panel will be headed by the Chairman of the NIGC. The Chairman shall have the authority to administer oaths, regulate the conduct of the public hearing, and rule on any procedural questions or objections.

2. Topic Panels

(1) State Perspective.

(2) Tribal Perspective.

(3) Federal Perspective.

(4) Manufacturers Perspective.

(5) Economic Impacts.

(6) Game Simulation.

3. Public Attendance

The public hearing is open to the public; however, NIGC and the Department of the Interior (DOI) have the authority to put reasonable limitations on use of transcription devices, videotape cameras, still cameras, camera lights and camera flash lights. NIGC and DOI have the right to restrict persons from entering into the hearing room if they believe their conduct will be disruptive and have the right to restrict the number of spectators to the capacity of the meeting room.

Errata: This Errata makes the following corrections to the preamble to the Notice of Proposed Rulemaking published on May 25, 2006 (71 FR 30238).

(1) 71 FR 30243, third paragraph, strike U.S. v. 103 Electronic Gambling Devices, 223 F.3d 1091, 1093 (10th Cir. 2000), insert U.S. v. 103 Electronic Gambling Devices, 223 F.3d 1091, 1093 (9th Cir. 2000).

(2) 71 FR 30246, fourth paragraph, last sentence, strike “If all players have covered sooner, the game may proceed.”

(3) 71 FR 30248, second paragraph, strike “The minimum two-second opportunity for covering (daubing) the selected numbers or other designations in each release that appears on players' cards may be shortened, and the game may proceed, if all players in the game Cover (daub) their cards in less time.”

(4) 71 FR 30248, tenth paragraph, third sentence, strike “or a lesser time if all players have covered.”

Dated: July 31, 2006.
Philip N. Hogen,
Chairman, National Indian Gaming Commission.

[FR Doc. E6-12580 Filed 8-3-06; 8:45 am]

BILLING CODE 7565-01-P